DEPARTMENT OF DEFENSE

Office of the Secretary

[Transmittal No. 23-70]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-70, Policy Justification, and Sensitivity of Technology.

Dated: November 14, 2024.
Stephanie J. Bost,
Alternate OSD Federal Register Liaison Officer, Department of Defense.

BILLING CODE

BILLING CODE

Transmittal No. 23-70

Notice of Proposed Issuance of Letter of Offer Pursuant to Section 36(b)(1) of the Arms Export Control Act, as amended

(i) Prospective Purchaser: Government of the Republic of Latvia

(ii) Total Estimated Value:

Major Defense Equipment * | $195 million
Other | $ 25 million
TOTAL | $220 million

Funding Source: National Funds and Foreign Military Financing

(iii) Description and Quantity or Quantities of Articles or Services under Consideration for Purchase:

Major Defense Equipment (MDE):

Six (6) M142 High Mobility Artillery Rocket Systems (HIMARS)

Twelve (12) M30A2 Guided Multiple Launch Rocket System (GMLRS) Alternative Warhead (AW) Pods with Insensitive Munitions Propulsion System (IMPS)

Twelve (12) M31A2 GMLRS Unitary (GMLRS-U) High Explosive Pods with IMPS

Ten (10) M57 Army Tactical Missile System (ATACMS) Pods

Non-MDE:

Also included are Reduced Range Practice Rocket (RRPR) Pods; intercom systems to support the HIMARS Launcher; ruggedized laptops; training; training equipment; publications for HIMARS, munitions, and spares; services; other support equipment; and other related elements of program and logistic support.

(iv) Military Department: Army (LG-B-UEL)

(v) Prior Related Cases, if any: LG-B-PCA

(vi) Sales Commission, Fee, etc., Paid, Offered, or Agreed to be Paid: None

(vii) Sensitivity of Technology Contained in the Defense Article or Defense Services Proposed to be Sold: See Attached Annex

(viii) Date Report Delivered to Congress: October 24, 2023

* As defined in Section 47(6) of the Arms Export Control Act.

POLICY JUSTIFICATION

Latvia—M142 High Mobility Artillery Rocket Systems

The Government of the Republic of Latvia has requested to buy six (6) M142 High Mobility Artillery Rocket Systems (HIMARS); twelve (12) M30A2 Guided Multiple Launch Rocket System (GMLRS) Alternative Warhead (AW) Pods with Insensitive Munitions Propulsion System (IMPS); twelve (12) M31A2 GMLRS Unitary (GMLRS-U) High Explosive Pods with IMPS; and ten (10) M57 Army Tactical Missile System (ATACMS) Pods. Also included are Reduced Range Practice Rocket (RRPR) Pods; intercom systems to support the HIMARS Launcher; ruggedized laptops; training; training equipment; publications for HIMARS, munitions, and spares; services; other support equipment; and other related elements of program and logistic support. The estimated total program cost is $220 million.

This proposed sale will support the foreign policy goals and national security objectives of the United States (U.S.) by improving the security of a NATO Ally that is an important force for political stability and economic progress in Europe.

The proposed sale will improve Latvia's capability to meet current and future threats and will enhance its interoperability with U.S. and other allied forces. Latvia will have no difficulty absorbing this equipment into its armed forces.

The proposed sale of this equipment and support will not alter the basic military balance in the region.

The principal contractor will be Lockheed Martin, Grand Prairie, TX. There are no known offset agreements in connection with this potential sale.

Implementation of this proposed sale will require the assignment of two (2) U.S. Government and five (5) contractor representatives to Latvia for a period of one year. Additional U.S. Government or contractor representative travel to Latvia will be required for program management reviews. This travel is expected to occur approximately twice a year or as needed to support equipment fielding and training.

There will be no adverse impact on U.S. defense readiness as a result of this proposed sale.

Transmittal No. 23-70

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton Family of Medium Tactical Vehicles truck chassis. HIMARS is the modern Army-fielded version of the Multiple Launch Rocket System (MLRS) M270 launcher and can fire all the MLRS Family of Munitions (FOM), including Guided Multiple Launch Rocket System (GMLRS) variants and the Army Tactical Missile System (ATACMS). Utilizing the MLRS FOM, the HIMARS can engage targets between 15 and 300 kilometers with GPS-aided precision accuracy.

2. The Guided Multiple Launch Rocket System (GMLRS) M31A2 Unitary is the Army's primary munition for units fielding the M142 HIMARS and M270Al Multiple Launcher Rocket System (MLRS) Launchers. The M31 Unitary is a solid propellant artillery rocket that uses Global Positioning System/Precise Positioning Service (GPS/PPS)-aided inertial guidance enabled by SAASM or M-Code to deliver a single high-explosive blast fragmentation warhead accurately and quickly to targets at ranges from 15-70 kilometers. The rockets are fired from a launch pod container that also serves as the storage and transportation container for the rockets. Each rocket pod holds six (6) total rockets.

3. The M30A2 GMLRS Alternative Warhead shares a greater than 90% commonality with the M31A1 Unitary. The primary difference between the GMLRS-U and GMLRS-AW is the replacement of the Unitary's high explosive warhead with a 200-pound fragmentation warhead of pre-formed tungsten penetrators which is optimized for effectiveness against large area and imprecisely located targets. The munitions otherwise share a common motor, GPS/PPS-aided inertial guidance enabled by SAASM or M-Code, control system, fusing mechanism, multi-option height of burst capability, and effective range of 15-70km.

4. The M57 Army Tactical Missile System (ATACMS)—Unitary is a conventional, semi-ballistic missile that utilizes a 500-pound high explosive warhead. It has an effective range of between 70 and 300 kilometers and has increased lethality and accuracy over previous versions of the ATACMS due to a GPS/Precise Position System (PPS) aided navigation system.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that Latvia can provide the same degree of protection for the sensitive technology being released as the U.S. Government. This sale is necessary in furtherance of the U.S. foreign policy and national security objectives outlined in the Policy Justification.

8. All defense articles and services listed in this transmittal are authorized for release and export to Latvia.

[FR Doc. 2024-26987 Filed 11-19-24; 8:45 am]

BILLING CODE 6001-FR-P